DEPARTMENT OF COMMERCE

National Institute of Standards and Technology

[Docket No. 981013257-9194-01]

RIN 0692-ZA 25

Announcing Approval of Withdrawal of Thirty-Three Federal Information Processing Standards (FIPS) Publications

AGENCY: National Institute of Standards and Technology (NIST), Commerce.

ACTION: Notice.

SUMMARY: The purpose of this notice is to announce that the Secretary of Commerce has approved the withdrawal of thirty-three Federal Information Processing Standards (FIPS) Publications.

These FIPS are being withdrawn because they are obsolete, or have not been updated to adopt current voluntary industry standards. Most of these FIPS adopt voluntary industry standards for Federal government use. In some cases, the FIPS documents have not been updated to adopt current or revised voluntary industry standards. This situation preserves obsolete, but mandatory, standards for agency use. In other cases, commercial products implementing the voluntary industry standards are widely available; as a result it is no longer necessary for the Government to mandate standards that duplicate industry standards.

The Information Technology Management Reform Act of 1996 (Division E of Public Law 104-106) and Executive Order 13011 signed by the President emphasize agency management of information technology and Government-wide interagency support activities to improve productivity, security, interoperability, and coordination of Government resources. Federal agencies and departments are directed by the National Technology Transfer and Advancement Act of 1995, Public Law 104-113, to use technical standards that are developed in voluntary consensus standards bodies.

EFFECTIVE DATE: This withdrawal is effective February 25, 2000.

FOR FURTHER INFORMATION CONTACT: Ms. Shirley M. Radack, telephone (301) 975-2833, National Institute of Standards and Technology, Gaithersburg, MD 20899.

SUPPLEMENTARY INFORMATION: On November 13, 1998, notice was published in the Federal Register (63 FR 9199) proposing the withdrawal of thirty-one Federal Information Processing Standards (FIPS) Publications, because the technical specifications that they adopt are obsolete and are no longer supported by industry. No comments from industry, Government, or the public were received concerning this proposed withdrawal. In addition, FIPS 103, Codes for the Identification of Hydrologic Units in the United States and the Caribbean Outlying Areas, and FIPS 160, C, are also being withdrawn. These FIPS had been proposed for withdrawal in the Federal Register (61 FR 46444-46445 dated September 3, 1996). FIPS 103 was retained until the U.S. Geological Survey developed revised codes for hydrologic units. Since these revised codes are now available, FIPS 103 is no longer needed. FIPS 160 was retained until the NIST validation program for the FIPS ended. Since the program has ended, FIPS 160 is no longer needed.

Withdrawal means that the FIPS will no longer be part of a subscription series that is provided by the National Technical Information Service, and that NIST will no longer be able to support the standards by answering implementation questions or updating the FIPS when the voluntary industry standards are revised.

This notice provides the FIPS publication number, title, and the technical specifications number for each of the thirty-three FIPS Publications being withdrawn:

—FIPS 21-4, COBOL (ANSI X3.23-1985,X3.23a-1989&X3.23b-1993)

—FIPS 29-3, Interpretation Procedures for Federal Information Processing Standards for Software

—FIPS 101, Guideline for Lifecycle Validation, Verification, and Testing of Computer Software

—FIPS 103, Codes for the Identification of Hydrologic Units in the United States and the Caribbean Outlying Areas

—FIPS 106, Guideline on Software Maintenance

—FIPS 119-1, Ada (ANSI/ISO/IEC 8652:1995)

—FIPS 132, Guideline for Software Verification and Validation Plans (ANSI/IEEE 1012-1986)

—FIPS 137, Analog to Digital Conversion of Voice by 2,400 Bit/Second Linear Predictive Coding

—FIPS 139, Interoperability and Security Requirements for Use of the Data Encryption Standard in the Physical Layer of Data Communications

—FIPS 141, Interoperability and Security Requirements for Use of the Data Encryption Standard with CCITT Group 3 Facsimile Equipment

—FIPS 144, Data Communication Systems and Services User-Oriented Performance Parameters (ANSI X3.102-1983/R1990

—FIPS 150, Facsimile Coding Schemes and Coding Control Functions for Group 4 Facsimile Apparatus (EIA-538-1988)

—FIPS 151-2, Portable Operating System Interface (POSIX)—System Application Program Interface [C Language] (ISO/IEC 9945-1:1900)

—FIPS 155, Data Communication Systems and Services User-Oriented Performance Measurement Methods (ANSI X3.141-1987)

—FIPS 160, C (ANSI/ISO 9899:1992).

—FIPS 162, 1,200 Bits Per Second Two-Wire Duplex Modems for Data Communications Use on Telephone-Type Circuits

—FIPS 163, 2,400 Bits Per Second Two-Wire Duplex Modems for Data Communications Use on Telephone-Type Circuits

—FIPS 164, 2,400 Bits Per Second Four-Wire Duplex and Two-Wire Half-Duplex Modems for Data Communications Use on Telephone-Type Circuits

—FIPS 165, 4,800 Bits Per Second Four-Wire Duplex and Two-Wire Half-Duplex Modems for Data Communications Use on Telephone-Type Circuits

—FIPS 166, 4,800 and 9,600 Bits Per Second Two-Wire Duplex Modems for Data Communications Use on Telephone-Type Circuits

—FIPS 167, 9,600 Bits Per Second Four-Wire Duplex Modems for Data Communications Use on Telephone-Type Circuits

—FIPS 168, 12,000 and 14,400 Bits Per Second Four-Wire Duplex Modems for Data Communications Use on Telephone-Type Circuits

—FIPS 169, Error Correction in Modems Employing Asynchronous-To-Synchronous Conversion

—FIPS 170, Data Compression in Modems Employing CCITT Recommendation V.42 Error Correction

—FIPS 172-1, VHSIC Hardware Description Language (VHDL) (ANSI/IEEE 1076-1993)

—FIPS 175, Federal Building Standard for Telecommunications Pathways and Spaces (ANSI/EIA/TIA-569-1990)

—FIPS 176, Residential and Light Commercial Telecommunications Wiring Standard (ANSI/EIA/TIA-570-1991)

—FIPS 182, Integrated Services Digital Network (ISDN)

—FIPS 187, Administration Standard for the Telecommunications Infrastructure of Federal Buildings (ANSI/TIA/EIA-606-1993)

—FIPS 189, Portable Operating System Interface (POSIX)—Part 2: Shell and Utilities (ISO/IEC 9945-2:1993)

—FIPS 193, SQL Environments

—FIPS 194, Open Document Architecture (ODA) Raster Document Application Profile (DAP) (ISO/IEC 12064-1 ISP/FOD112)

—FIPS 195, Federal Building Grounding and Bonding Requirements for Telecommunications (ANSI/TIA/EIA-607-1994)

NIST recommended that the Secretary approve the withdrawal of the thirty-three FIPS Publications, and prepared a detailed justification document for the Secretary's review in support of that recommendation.

Authority: Federal Information Processing Standards Publications (FIPS PUBS) are issued by the National Institute of Standards and Technology after approval by the Secretary of Commerce pursuant to Section 5131 of the Information Technology Management Reform Act of 1996 and the Computer Security Act of 1987, Public Law 100-235.

Dated: February 17, 2000.
Karen H. Brown,
Deputy Director, NIST.

[FR Doc. 00-4512 Filed 2-24-00; 8:45 am]

BILLING CODE 3510-CN-M